DEPARTMENT OF AGRICULTURE

Forest Service

Andrew Pickens Ranger District; South Carolina; AP Loblolly Pine Removal and Restoration Project

AGENCY: Forest Service, USDA.

ACTION: Notice; correction

SUMMARY: On March 8, 2010, the Forest Service published a NOT to prepare and EIS to disclose the effects of removing off-site loblolly pine plantations and restoring native vegetation on portions of the Andrew Pickens Ranger District (the District). This NOI is being corrected to reflect a delay of more than a year in filing the draft EIS. In addition, corrections are being made to the number of acres proposed for treatment and the miles of system and temporary roads based on better mapping and additional field survey work. Finally, the contact person for additional information has changed.

FOR FURTHER INFORMATION CONTACT: Victor Wyant, 864-638-9568.

Correction

1. In the Federal Register of March 8, 2010, in FR/Vol. 75, No. 44, on page 10457, in the third column, correct the DATES caption to read:

DATES: The draft environmental impact statement is expected by October 2012 and the final environmental impact statement is expected by December 2012.

2. In the Federal Register of March 8, 2010, in FR/Vol. 75, No. 44, on page 10458, in the first column, correct the FOR FURTHER INFORMATION CONTACT caption to read:

FOR FURTHER INFORMATION CONTACT: Victor Wyant (vwyant@fs.fed.us), 864-638-9568.

3. In the Federal Register of March 8, 2010, in FR/Vol. 75, No. 44, on page 10458, in the first column, correct the “Purpose and Need for Action”, first sentence to read:

The District has approximately 5,542 acres of planted loblolly pine stands.

4. In the Federal Register of March 8, 2010, in FR/Vol. 75, No. 44, on page 10458, in the third column, correct the “Proposed Action”, heading to read:

Regeneration Harvest, With Reserves (Cut-and-Remove—3,642 Acres)

5. In the Federal Register of March 8, 2010, in FR/Vol. 75, No. 44, on page 10458, in the third column, correct the “Proposed Action”, heading to read:

Regeneration Harvest, With Reserves (Cut-and-Leave—1,900 Acres)

6. In the Federal Register of March 8, 2010, in FR/Vol. 75, No. 44, on page 10459, in the first column, correct the “Additional Treatments”, heading to read:

Site Preparation and Release (3,421 Acres) for Reforestation by Planting

7. In the Federal Register of March 8, 2010, in FR/Vol. 75, No. 44, on page 10459, in the second column, correct the “Reforestation”, heading to read:

Reforestation by Planting (3,061 Acres)

8. In the Federal Register of March 8, 2010, in FR/Vol. 75, No. 44, on page 10459, in the third column, correct the “Connected Actions”, heading, second paragraph, fourth sentence to read:

Total specified system road construction is estimated at 6.5 mile but may vary once actual design is completed.

9. In the Federal Register of March 8, 2010, in FR/Vol. 75, No. 44, on page 10459, in the third column, correct the “Connected Actions”, heading, third paragraph, first sentence to read:

Road Reconstruction and maintenance would be needed on approximately 60.0 miles of roads.

10. In the Federal Register of March 8, 2010, in FR/Vol. 75, No. 44, on page 10459, in the third column, correct the “Connected Actions”, heading, fourth paragraph, third sentence to read:

Approximately 21.7 miles of temporary roads are needed for access.

SUPPLEMENTARY INFORMATION:

Purpose and Need for Action

The District has approximately 5,542 acres of planted loblolly pine stands. Most of the project area was converted to loblolly pine plantations by clear-cutting more diverse native stands and planting them to loblolly pine (Pinus taeda) after intensive site preparation treatments. Species composition is mostly pure loblolly pine with few native hardwoods or pines growing in the overstory. Hardwood sprouts and saplings are common in the understory.

With a lack of disturbance, the understory is comprised mostly of shade tolerant tree species such as red maple, black gum, dogwood, and sourwood. Stand density is high, typically ranging from 120 to 160 square feet of basal area per acre. Loblolly pine in the overstory of some stands is sparse due to southern pine beetle (SPB) mortality or from poor planting success. SPB-related mortality was widespread across the District in 2002 and 2003, with variable impacts to stands in the project area.

Early successional habitat is one of the most limited types of available plant and wildlife habitats on the Andrew Pickens District. The endangered plant, smooth coneflower has been limited in its distribution as a result of lack of disturbance and growth of shade tolerant species. The species is known to occur adjacent to several loblolly stands. Plant surveys have identified current locations of the plant and potential habitat areas have also been identified. There is an opportunity to promote the expansion and establishment of this species in identified areas. The Sumter National Forest Protected, Endangered, and Threatened Species (PETS) list includes several other species that require early successional habitat in order to thrive. These species generally have been restricted to along roadsides and utility right-of-ways (ROWs) because of the disturbance frequency on these sites.

The AP Loblolly Pine Removal and Restoration Project is located on four management prescription areas:

Management area |
4F | Scenic Areas.
7.E.2 | Dispersed Recreation Areas with Vegetation Management.
8.A.1 | Mix of Successional Forest Habitats.
11 | Riparian Corridors.

The purpose and need for this project is to restore the current landscape condition within the project area to native forest vegetation. This change in condition would improve ecosystem health; increasing species diversity of native vegetation would provide greater variety of habitat, increasing viability of plant and animal species. Diverse native forests are more resilient to natural disturbances than a plantation comprised primarily of one non-native species.

The off-site loblolly pine stands would be naturally or artificially regenerated to a native species composition, mostly shortleaf pine, pitch pine, Table mountain pine, oaks, and hickories. A blight resistant American chestnut (once native to this area) would also be planted depending on suitable site conditions and seedling availability. These species are ecologically suited to the proposed treatment stands, provide mast for wildlife, and provide socio-economic benefits. All of these species, most notably the native pine species, have been declining in abundance on the District, primarily due to lack of disturbance. Felling newly-regenerated loblolly pine trees in recently harvested stands that were part of other project Decisions would help facilitate the development of native species in those stands.

Woodlands treatments would provide additional habitat diversity. Woodlands are forests with relatively low tree densities of 25-60% forest cover with understories that are dominated by native grasses and forbs. Management that promotes woodlands would serve a multitude of resources. Woodlands provide habitat for a variety of disturbance-dependent, early successional game and nongame wildlife species in all stages of their lifecycles. Populations of early successional bird species, such as northern bobwhite quail, ruffed grouse, field sparrow, and golden-winged warbler, have been declining on the Sumter National Forest because of a lack of suitable habitat. Woodlands also provide open stand conditions with ample sunlight and disturbance conditions conducive to certain plants including the federally endangered smooth coneflower.

Proposed Action

The District has approximately 5,542 acres of planted loblolly pine stands. The action proposed by the Forest Service to meet the Purpose and Need consists of regeneration harvest with reserves (cut-and-remove) and regeneration harvest with reserves (cut-and-leave) treatments and the establishment/maintenance of woodlands. Prescribed burning, manual, mechanical, and herbicide treatments would be used to reduce woody competition in regenerated stands to help establish/maintain native plant communities including smooth coneflower. Prescribed burning is covered under existing project Decisions.

Regeneration Harvest With Reserves (Cut-and-Remove — 3,642 Acres)

Timber harvest would occur in stands where operable volumes now exist. This would include establishing log landings and loading areas, skid trails, and road access in the form of temporary roads, reconstructed roads, or newly constructed forest system roads. In addition to loblolly pine, harvest would also include Virginia pine, white pine, red maple, yellow-poplar and other hardwoods to reduce competition. Oaks, hickories, shortleaf pine, Table mountain pine, pitch pine, would be retained where possible unless removal is necessary for safety or for equipment operability reasons. Selected soft mast producers and some flowering tree species would also be retained for their wildlife food or ecological benefit.

Regeneration Harvest With Reserves (Cut-and-Leave—1,900 Acres)

Loblolly pine trees would be cut and left on-site where trees are too small or access too difficult for a viable commercial sale. Cut and leave treatments would also occur in stands where harvest has already occurred where loblolly pine regeneration has come in. Cutting methods would include manual methods that use hand tools and chainsaws. In addition to loblolly pine, cutting would also include Virginia pine, white pine, red maple, yellow-poplar and other hardwoods to reduce competition. Oaks, hickories, shortleaf pine, Table mountain pine, and pitch pine would be retained. Selected soft mast producers and some flowering tree species would also be retained for their wildlife food or ecological benefit.

Additional Treatments

Site Preparation for Reforestation by Planting (Artificial Regeneration) and Release (3,421 Acres)

In stands where reforestation by planting is proposed, herbicide would be used to prepare the site for planting. Any remaining Virginia pine, white pine, red maple, yellow-poplar and other hardwoods would be targeted to reduce competition to the planted species and to any remaining oaks, hickories, shortleaf pine, table mountain pine, and pitch pine. Selected soft mast producers and some flowering tree species be retained for their wildlife food or ecological benefit.

Site preparation and release treatments would include stem injection and foliar spray using the herbicides imazapyr and triclopyr that would be used in identified regeneration units. Stem injections would be applied with hatchets and squirt bottles, or similar application devices, using a mixture of 64 oz water, 64 oz Garlon 3A or equivalent (triclopyr amine) and 6 oz Arsenal AC or equivalent (imazapyr). Stem injection would be applied to target vegetation too large to treat with a foliar spray. This application is made between the first of July and the end of September.

Directed foliar spray would be applied using backpack sprayers. The application is a low volume direct spray applied to targeted vegetation by speckling the leaf surface. This application is made between the first of July and the end of September. Per gallon of mix water, the herbicide mixture for this application is: 0.5 ounce Arsenal AC or equivalent (imazapyr), 2 ounces of Garlon 4 or equivalent (triclopyr ester), V2 ounce surfactant, and spray pattern indicator.

An herbicide crop tree release treatment would be done 3 to 5 years after trees are planted. The treatment would reduce competition to oaks, hickories, shortleaf pine, Table mountain pine, pitch pine. and American chestnut (if planted) so that they could become the dominant species in the treated stands over the long term. Selected soft mast producers and some flowering tree species would be retained for their wildlife food or ecological benefit.

Reforestation by Planting (Artificial Regeneration)—3,061 Acres

In stands where reforestation by planting is proposed, native shortleaf pine would be planted on a majority of the sites on a 12x12 foot spacing to augment natural regeneration of native pines and hardwoods. Where suitable habitat exists and if seedlings are available, Table mountain pine and pitch pine would be planted. Also depending on site conditions and seedling availability, a blight resistant strain of American chestnut would be planted to re-establish this species.

Plantings would take advantage of growing space created by timber harvest and site preparation. Areas of the stand would not be planted where sufficient stocking exists from overstory trees that were not harvested. This would result in a two-aged structure in some stands.

Woodland Treatments (202 Acres)

The woodland treatments would cut all loblolly pine. Virginia pine, white pine, maples, yellow-poplar, and other species would be cut as needed to reduce competition. All pitch pine and Table mountain pine would be retained unless removal is necessary for safety or for equipment operability reasons. The treatment would include thinning oaks, hickories, and shortleaf pine to a basal area (BA) of 30-40 ft\2\/acre. All oak, hickory, and shortleaf pine would be left where (BA) is currently less than 30-40 ft\2\/acre. Three of these stands would be managed to benefit smooth coneflower.

After initial treatments are completed, the areas would be prescribe-burned on a periodic basis, every 1-5 years (prescribed burning is covered under existing NEPA Decisions). Herbicide, manual and mechanical methods would be applied to sprouts/seedlings within 1-2 years after the initial post-harvest prescribed burn to reduce competition. These methods would be applied up to two more times after the initial treatment if needed to reduce competition. For woodlands management, the type of herbicide, method of application, and timing of application would be the same as that proposed for site preparation and release treatments.

Manual and mechanical methods including but not limited to hand tools (chainsaws, brush saws), and/or heavy equipment (tractor with mower, gyro-track) would be used to control sprouts and seedlings of tree species to maintain the woodland condition. Mechanical treatments would grind up or masticate undesirable understory vegetation.

Connected Actions

The following activities would be conducted in connection with vegetation management activities.

• System Road Construction: Twelve (12) system roads would be built providing access to 20 loblolly timber stands. These new roads are needed to provide access during timber harvest and to provide for long term resource management. These roads are designed by Forest Service engineers to specific standards that include designing drainage structures such as culvert installations, inside slope ditching, road crown specifications, widened turn-around, gates, and signage. Total specified system road construction is estimated at 6.5 miles but would vary once actual design is completed. Information on roads is contained in the road analysis.

• Road Reconstruction and Maintenance: System road reconstruction and maintenance would be needed on approximately 60 miles of roads. Reconstruction work would consist of but not be limited to graveling road surfaces, replacing culverts—including replacements for aquatic organism passage, ditch cleaning, removing brush and trees along road rights-of-way, installing, repairing or replacing gates and correcting road safety hazards. Road maintenance would consist of spot gravel replacement, blading, cleaning culverts, brushing and mowing.

• Temporary Roads: Log landings that have no access to existing roads would be accessed by a temporary road that connects to the forest transportation system. Temporary roads are low-standard roads generally under 10 percent grade and road widths less than 14 feet. Approximately 21.7 miles of temporary roads are needed for access. Most temporary roads would be in the form of utilizing existing undesignated “woods” roads that already exist in the forest, that are in suitable locations, and for the most part have stabilized cut and fill slopes that would not be disturbed. Upon completion of treatments, temporary roads would be closed, obliterated and adequate erosion and storm water control measures completed and replanted with vegetation.

• Skid Trails: Skid trails would be used to skid logs to log landings. They would be closed after use with adequate storm water and erosion control measures.

• Log Landings: Log landings are locations where logs are piled and then loaded onto trucks. Existing landings sites would be used as practicable to limit soil effects (compaction). They would be closed after use with adequate storm water and erosion control measures.

Possible Alternatives

The Proposed Action and another action alternative are proposed for achieving the stated purpose and need, as well as a No-Action Alternative. The other action alternatives was developed to respond to issues raised by the public during scoping.

Responsible Official

The Andrews Pickens District Ranger, Sumter national Forest is the responsible official for this project.

Nature of Decision To Be Made

The District Ranger will decide whether or not to implement the action as proposed or an alternative way to achieve the desired outcome.

Scoping Process

The scoping process for this project occurred when the original NOI was published in 2010. Issues identified during the scoping period were used to determine the alternatives considered and to frame the effects analysis. This proposal has been listed in the Francis Marion and Sumter National Forests Schedule of Proposed Actions since 2010.

Dated: September 17, 2012.
Mike Crane,
District Ranger.

[FR Doc. 2012-23615 Filed 9-25-12; 8:45 am]

BILLING CODE 3410-11-M